DEPARTMENT OF THE INTERIOR

National Park Service

[NPS-WASO-NAGPRA-14169; PPWOCRADN0-PCU00RP14.R50000]

Notice of Inventory Completion: Center for Archaeological Research at the University of Texas at San Antonio, San Antonio, TX

AGENCY: National Park Service, Interior.

ACTION: Notice.

SUMMARY: The Center for Archaeological Research at the University of Texas at San Antonio has completed an inventory of human remains, in consultation with the appropriate Native Hawaiian organizations, and has determined that there is a cultural affiliation between the human remains and present-day Native Hawaiian organizations. Lineal descendants or representatives of any Native Hawaiian organization not identified in this notice that wish to request transfer of control of these human remains should submit a written request to the Center for Archaeological Research at the University of Texas at San Antonio. If no additional requestors come forward, transfer of control of the human remains to the Native Hawaiian organizations stated in this notice may proceed.

DATES: Lineal descendants or representatives of any Native Hawaiian organization not identified in this notice that wish to request transfer of control of these human remains should submit a written request with information in support of the request to the Center for Archaeological Research at the University of Texas at San Antonio at the address in this notice by December 2, 2013.

ADDRESSES: Cynthia Munoz, Center for Archaeological Research, 1 UTSA Circle, San Antonio, TX 78249, telephone (210) 458-4394.

SUPPLEMENTARY INFORMATION: Notice is here given in accordance with the Native American Graves Protection and Repatriation Act (NAGPRA), 25 U.S.C. 3003, of the completion of an inventory of human remains under the control of the Center for Archaeological Research at the University of Texas at San Antonio. The human remains were removed from an unknown location in Hawaii.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Center for Archaeological Research at the University of Texas at San Antonio professional staff in consultation with representatives of the Kia'i Kānāwai Compliance Enforcement Office of Hawaiian Affairs of Oahu, Hawaii.

History and Description of the Remains

Sometime between 1940 and 1960, human remains representing two individuals were removed by an U.S. Air Force airman from an unknown location in Hawaii, likely on the island of Oahu. The airman reportedly found the remains eroding from the sand on the beach and subsequently brought the remains to his home in San Antonio, TX. The human remains consist of two complete skulls, one probably male and one probably female, both adults. After the airman died, his son found the remains and donated them to the Center for Archaeological Research at the University of Texas at San Antonio. Documentation with the remains states the remains were removed from a “Hawaii hotel site.” No known individuals were identified. No associated funerary objects are present.

The geographic context suggests that the remains are of Native Hawaiian affiliation. The teeth of both individuals are worn, suggesting a diet containing abrasives, likely associated with archaeological remains. Given the absence of associated objects, it is not possible to ascribe tribal affiliation.

Determinations Made by the Center for Archaeological Research at the University of Texas at San Antonio

Officials of the Center for Archaeological Research at the University of Texas at San Antonio have determined that:

• Pursuant to 25 U.S.C. 3001(9), the human remains described in this notice represent the physical remains of two individuals of Native American ancestry.

• Pursuant to 25 U.S.C. 3001(2), there is a relationship of shared group identity that can be reasonably traced between the Native American human remains and Kia'i Kānāwai Compliance Enforcement Office of Hawaiian Affairs of Oahu, Hawaii

Additional Requestors and Disposition

Lineal descendants or representatives of any Native Hawaiian organization not identified in this notice that wish to request transfer of control of these human remains should submit a written request with information in support of the request to Cynthia Munoz, Center for Archaeological Research, 1 UTSA Circle, San Antonio, TX 78249, telephone (210) 458-4394, by December 2, 2013. After that date, if no additional requestors have come forward, transfer of control of the human remains to Kia'i Kānāwai Compliance Enforcement Office of Hawaiian Affairs of Oahu, Hawaii may proceed.

The Center for Archaeological Research at the University of Texas at San Antonio is responsible for notifying the Kia'i Kānāwai Compliance Enforcement Office of Hawaiian Affairs of Oahu, Hawaii that this notice has been published.

Dated: September 23, 2013.
Sherry Hutt,
Manager, National NAGPRA Program.

[FR Doc. 2013-25971 Filed 10-30-13; 8:45 am]

BILLING CODE 4312-50-P